DEPARTMENT OF AGRICULTURE

Food and Nutrition Service

Agency Information Collection Activities: Proposed Collection; Comment Request—Performance Reporting System, Management Evaluation

AGENCY: Food and Nutrition Service (FNS), USDA.

ACTION: Notice.

SUMMARY: In accordance with the Paperwork Reduction Act of 1995, this notice invites the general public and other public agencies to comment on this proposed information collection which concerns the Performance Reporting System for the Supplemental Nutrition Assistance Program. This collection is a revision of a currently approved collection under OMB No. 0584-0010 which is due to expire March 31, 2010.

DATES: Written comments must be received on or before January 4, 2010.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Harriet Kornegay, Senior Program Analyst, Program Design Branch, Food and Nutrition Service, U.S. Department of Agriculture, 3101 Park Center Drive, Room 814, Alexandria, VA 22302. Comments may also be submitted via fax to the attention of Harriet Kornegay at 703-305-2486 or via e-mail to harriet.kornegay@fns.usda.gov. Comments will also be accepted through the Federal eRulemaking Portal. http://www.regulations.gov, and follow the online instructions for submitting comments electronically.

All written comments will be open for public inspection at the office of the Food and Nutrition Service during regular business hours (8:30 a.m. to 5 p.m. Monday through Friday) at 3101 Park Center Drive, Room 814, Alexandria, Virginia 22302.

All responses to this notice will be summarized and included in the request for Office of Management and Budget approval. All comments will be a matter of public record.

FOR FURTHER INFORMATION CONTACT: Requests for additional information or copies of this information collection should be directed to Harriet Kornegay at 703-305-2501.

SUPPLEMENTARY INFORMATION: Title: Performance Reporting System, Management Evaluation.

OMB Number: 0584-0010.

Expiration Date: March 31, 2010.

Type of Request: Revision of a currently approved collection.

Abstract: The purpose of the Performance Reporting System (PRS) is to ensure that each State agency and project area is operating the Supplemental Nutrition Assistance Program (SNAP) in accordance with the requirements of the Food and Nutrition Act of 2008 (the Act) (7 U.S.C. 2011, et seq.), as amended, and corresponding program regulations. Under Section 11 of the Act (7 U.S.C. 2020), State agencies must maintain necessary records to ascertain that SNAP is operating in compliance with the Act and regulations and must make these records available to the Food and Nutrition Service (FNS) for inspection and audit. The only changes to the existing collection are to the burden amount which has been slightly adjusted to account for a correction to the number of respondents, and a refined assessment, based on past experience, to the number of responses. Despite these edits, the estimated total hours are very nearly the same.

Management Evaluation (ME) Review Schedules—Unless the State receives approval for an alternative Management Evaluation review schedule, each State agency is required, under 7 CFR Part 275, to submit one review schedule every one, two, or three years, depending on the project area make-up of the State.

Data Analysis—Under 7 CFR Part 275, each State must establish a system for analysis and evaluation of all data available to the State. Data analysis and evaluation is an ongoing process that facilitates the development of effective and prompt corrective action.

Corrective Action Plans—Under 7 CFR Part 275, State agencies must prepare a corrective action plan (CAP) addressing identified deficiencies. The State agencies must develop a system for monitoring and evaluating corrective action and submit CAP updates, as necessary.

Affected Public: Respondent groups identified include SNAP State and local agencies.

Estimated Number of Respondents: The total estimated number of respondents is 53. This includes 53 State agencies.

Estimated Number of Responses per Respondent: Based on past experience FNS estimates that State agencies will submit one review schedule and ME review plan per year, and will conduct and document ME reviews for a total of 30 responses each.

Estimated Total Annual Responses: 53 × 30 = 1,590.

Estimated Time per Response: FNS estimates that it takes 4 hours to prepare a review schedule, and that each of the 53 State agencies will submit one review schedule per year resulting in a total burden of 212 hours (53 State agencies × 1 review schedule × 4 hours). FNS estimates that it takes on average approximately 80 hours to develop a comprehensive State review plan, resulting in a total of 4240 hours (80 hours × 53 State plans). FNS estimates that it takes an average of 340 hours to conduct a review. It is estimated that ME reviews are conducted for one-half of the total number of project areas (1,430) annually. FNS estimates that it takes approximately 487,820 hours annually to (340 hours × 1430 ME reviews). FNS also estimates that the time necessary for record keeping, that is, the time necessary to find and file a record in the conduct of an ME review, is based on 53 record keepers × approximately 30 hours (1590 hours). The total estimated annual reporting burden is as follows:

Prepare Review Schedules 4 × 53 = 212 hours

Prepare Review Plans 80 × 53 = 4,240 hours

Conduct ME Reviews 340 × 1,430 = 486,200 hours

Recordkeeping 30 × 53 = 1,590 hours

Total Annual Reporting Burden = 492,242 hours

The estimated time of response is 309.58 hours, as shown in the table below.

Estimated Total Annual Burden on Respondents: 29,534,520 minutes (492,242 hours). See the table below for estimated total annual burden for each type of respondent.

Respondent | Estimated number of respondents | Responses annually per respondent | Total annual responses (col. bxc) | Estimated avg. mumber of hours per response | Estimated total hours (col. dxe)
Reporting Burden:
State and local agencies | 53 | 30 | 1590 | 309.58 | 492,242
Total Reporting Burden | 53 |  | 1590 |  | 492,242

Dated: October 27, 2009.
Julia Paradis,
Administrator.

[FR Doc. E9-26606 Filed 11-3-09; 8:45 am]

BILLING CODE 3410-30-P